ENVIRONMENTAL PROTECTION AGENCY

[EPA-HQ-OECA-2015-0190; FRL-9996-46-OMS]

Information Collection Request Submitted to OMB for Review and Approval; Comment Request; NSPS for Nitric Acid Plants (Renewal)

AGENCY: Environmental Protection Agency (EPA).

ACTION: Notice.

SUMMARY: The Environmental Protection Agency (EPA) has submitted an information collection request (ICR), NSPS for Nitric Acid Plants (EPA ICR Number 1056.13, OMB Control Number 2060-0019), to the Office of Management and Budget (OMB) for review and approval in accordance with the Paperwork Reduction Act. This is a proposed extension of the ICR, which is currently approved through September 30, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before August 19, 2019.

ADDRESSES: Submit your comments, referencing Docket ID Number EPA-HQ-OECA-2015-0190, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Nitric Acid Plants (40 CFR part 60, subpart G) were proposed on August 17, 1971, promulgated on June 14, 1974, and amended on August 14, 2012. The NSPS for Nitric Acid Plants (40 CFR part 60, subpart Ga) were proposed on October 14, 2011, promulgated on August 14, 2012, and were amended on May 6, 2014 in order to correct a minor error. Subpart G applies to nitric acid production units, producing weak (30 to 70 percent) nitric acid, which commenced construction, modification or reconstruction either on or after August 17, 1971 and prior to October 14, 2011. Subpart G limits the emissions of nitrogen oxides, expressed as nitrogen dioxide (NO2), to 1.5 kilograms per metric ton of acid produced (3.0 lb. per ton), and limits opacity to 10 percent. Subpart Ga applies to nitric acid production units, producing weak (30 to 70 percent) nitric acid, for which construction, reconstruction, or modification commenced after October 14, 2011, and limits nitrogen oxides (expressed as NO2) to 0.50 lb per ton of 100 percent nitric acid produced. This information is being collected to assure compliance with 40 CFR part 60, subparts G and Ga.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Nitric acid production units.

Respondent's obligation to respond: Mandatory (40 CFR part 60, subparts G and Ga).

Estimated number of respondents: 32 (total).

Frequency of response: Initially, occasionally, and semiannually.

Total estimated burden: 2,530 hours (per year). Burden is defined at 5 CFR 1320.3(b).

Total estimated cost: $3,040,000 (per year), which includes $2,750,000 in annualized capital/startup and/or operation & maintenance costs.

Changes in the Estimates: There is an adjustment increase in the total estimated burden as currently identified in the OMB Inventory of Approved Burdens. This increase is not due to any program changes. The change in the cost estimates is due to adjustments for growth in the industry. There is an increase in the number of responses, labor hours, and operation and maintenance costs due to an increase in the number of respondents based on growth.

Courtney Kerwin,
Director, Regulatory Support Division.

[FR Doc. 2019-15266 Filed 7-17-19; 8:45 am]

BILLING CODE 6560-50-P